INTERNATIONAL TRADE COMMISSION

[Investigation No. 731-TA-747 (Final)]

Fresh Tomatoes From Mexico; Revised Schedule for the Subject Investigation

AGENCY: United States International Trade Commission.

ACTION: Notice.

DATES: August 30, 2019.

FOR FURTHER INFORMATION CONTACT: Christopher W. Robinson ((202) 205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On August 7, 2019, the Commission published a schedule for the conduct of the final phase of the subject investigation (84 FR 38643). Subsequently, on August 21, 2019, the Department of Commerce (“Commerce”) notified the Commission that Commerce and certain Mexican tomato producers/exporters initialed a draft agreement to suspend Commerce's antidumping duty investigation on Fresh Tomatoes from Mexico. The Commission, therefore, is revising its schedule.

The Commission's revised dates in the schedule are as follows: Requests to appear at the hearing must be filed with the Secretary to the Commission not later than September 17, 2019; the prehearing conference will be held at the U.S. International Trade Commission Building on September 19, 2019, if deemed necessary; the prehearing staff report will be placed in the nonpublic record on September 3, 2019; the deadline for filing prehearing briefs is September 10, 2019; the hearing will be held at the U.S. International Trade Commission Building at 9:30 a.m. on September 24, 2019; the deadline for filing posthearing briefs is September 30, 2019; the Commission will make its final release of information on October 17, 2019; and final party comments are due on October 21, 2019.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: August 30, 2019.
Lisa Barton,
Secretary to the Commission.

[FR Doc. 2019-19154 Filed 9-4-19; 8:45 am]

BILLING CODE 7020-02-P